LIBRARY OF CONGRESS

U.S. Copyright Office

[Docket No. 2014-03]

Music Licensing Study

AGENCY: U.S. Copyright Office, Library of Congress.

ACTION: Notice of public roundtables.

SUMMARY: The U.S. Copyright Office is undertaking a study to evaluate the effectiveness of current methods for licensing musical works and sound recordings. The study will assess whether and how existing methods serve the music marketplace, including new and emerging digital distribution platforms. In addition to soliciting written comments, the Office is conducting three two-day public roundtables on music licensing issues. A Notice of Inquiry soliciting written comments in response to a number of subjects was issued on March 17, 2014, and written comments are due on or before May 16, 2014. See 78 FR 14739 (Mar. 17, 2014). At this time, the Copyright Office announces three public roundtables to be held in June 2014 in Nashville, Los Angeles, and New York.

DATES: The two-day public roundtable in Nashville will be held on June 4 and 5, 2014, on both days from 9:00 a.m. to 5:00 p.m. The two-day public roundtable in Los Angeles will be held on June 16 and 17, 2014, on both days from 9:00 a.m. to 5:00 p.m. The two-day public roundtable in New York will be held on June 23 and 24, 2014, from 9:00 a.m. to 5:00 p.m. on June 23, and from 8:30 a.m. to 4:00 p.m. on June 24. Requests to participate in the roundtables must be received by the Copyright Office by May 20, 2014.

ADDRESSES: The Nashville roundtable will take place at Belmont University's Mike Curb College of Entertainment and Music Business, 34 Music Square East, Nashville, Tennessee 37203. The Los Angeles roundtable will take place at the UCLA School of Law, 385 Charles E. Young Drive East, Los Angeles, California 90095. The New York roundtable will take place at the New York University School of Law, 40 Washington Square South, New York, New York 10012. Requests to participate in the roundtables should be submitted using the form available on the Office's Web site at http://www.copyright.gov/docs/musiclicensingstudy. If electronic submission is not feasible, please contact the Office at 202-707-8350 for special instructions.

FOR FURTHER INFORMATION CONTACT: Jacqueline C. Charlesworth, General Counsel and Associate Register of Copyrights, by email at jcharlesworth@loc.gov or by telephone at 202-707-8350; or Sarang V. Damle, Special Advisor to the General Counsel, by email at sdam@loc.gov or by telephone at 202-707-8350.

SUPPLEMENTARY INFORMATION: Congress is currently engaged in a comprehensive review of the U.S. Copyright Act, 17 U.S.C. 101 et seq., to evaluate potential revisions to the law in light of technological and other developments that impact the creation, dissemination, and use of copyrighted works. In light of Congress's review and significant changes to the music industry in recent years, the U.S. Copyright Office is conducting a study to assess the effectiveness of current methods for licensing sound recordings and musical works. The Office published a Notice of Inquiry on March 17, 2014, seeking written comments on twenty-four subjects concerning the current environment in which music is licensed. See 78 FR 14739 (Mar. 17, 2014).

At this time, the Copyright Office is providing notice of its intention to seek further input for its study through three two-day public roundtables to be held in Nashville, Los Angeles, and New York. The public roundtables will offer an opportunity for interested parties to comment on pertinent music licensing issues. The roundtables will address topics set forth in the Notice of Inquiry, including: The current music licensing landscape; licensing of sound recordings, including under the Section 112 and 114 statutory licenses and the treatment of pre-1972 recordings; licensing of musical works, including under the Section 115 statutory license and through the performing rights organizations (“PROs”); fair royalty rates and platform parity; industry data standards; industry incentives and investment; and potential future developments in music licensing. Following discussion of the various agenda topics by roundtable participants, observers at the roundtables will be provided a limited opportunity to offer additional comments.

The roundtable hearing rooms will have a limited number of seats for participants and observers. Those who seek to participate should complete and submit the form available on the Office's Web site at http://www.copyright.gov/docs/musiclicensingstudy so it is received by the Office no later than May 20, 2014. For individuals who wish to observe a roundtable, the Office will provide public seating on a first-come, first-serve basis on the days of the roundtable.

Dated: April 30, 2014.
Jacqueline C. Charlesworth,
General Counsel and Associate Register of Copyrights.

[FR Doc. 2014-10242 Filed 5-2-14; 8:45 am]

BILLING CODE 1410-30-P